DEPARTMENT OF VETERANS AFFAIRS

Solicitation of Nomination for Appointment to the Advisory Committee on Disability Compensation

ACTION: Notice.

SUMMARY: The Department of Veterans Affairs (VA), Advisory Committee on Disability Compensation (the Committee), is seeking nominations of qualified candidates to be considered for appointment as a member of the Advisory Committee for the 2023-2024 membership cycle.

DATES: Nominations for membership on the Committee must be received by April 30, 2023, no later than 4 p.m., Eastern Standard Time. Packages received after this time will not be considered for the current membership cycle.

ADDRESSES: All nomination packages should be emailed to the Designated Federal Officer (DFO), Jadine Piper, at 21C_ACDC.VBACO@va.gov.

SUPPLEMENTARY INFORMATION: In carrying out the duties set forth, the Committee provides a Congressionally mandated biennial report to the Secretary, which includes:

(1) Providing ongoing assessment of the effectiveness, maintenance, and periodic readjustment of the VA Schedule for Rating Disabilities (VASRD).

(2) Reviewing programs and activities within VA that relate to the payment of disability compensation and providing recommendations on the most appropriate means of responding to the needs of Veterans relating to disability compensation in the future.

(3) Assessing the needs of Veterans with respect to compensation benefits and VASRD by meeting with VA officials, Veterans Service Organizations (VSO), and other stakeholders.

Management and support services for the Committee are provided by VBA.

Authority: The Committee is authorized by 38 U.S.C. 546 and operates under the provisions of the Federal Advisory Committee Act, as amended, 5 U.S.C. App. 2.

Membership Criteria: VBA is requesting nominations for vacancies on the Committee. As required by statute, the members of the Committee are appointed by the Secretary from the general public, including, but not limited to:

(1) Individuals with experience with the provision of disability compensation by the Department; or

(2) Individuals who are leading medical and scientific experts in relevant fields.

In accordance with § 546, the Secretary shall determine the terms of service, and pay and allowances of the Committee members. A term of service may not exceed four years. The Secretary may reappoint any member for additional terms of service.

Professional Qualifications: In addition to the criteria above, VA seeks:

(1) Diversity in professional and personal qualifications (e.g., current employment, indicate if retired); (2) Experience working in large and complex organizations; (3) Experience in military service (please identify branch, rank, deployments, status to include active/retired); (4) Current work with Veterans (if employed as by a Veterans Service Organization, indicate current, prior, or retired and which organization); (5) Disability compensation subject matter expertise; and (6) Diversity in demographics (e.g., gender; ethnicity, geographic location, etc.).

Requirements for Nomination Submission: Nomination packages must be typewritten (12-point font) (one nomination per nominator); and the nomination package should include:

(1) a cover letter from the nominee and (2) a current résumé or curriculum vitae (CV). The cover letter must summarize: The nominee's interest in serving on the committee and contributions they can make to the work of the committee; any relevant Veterans' service activities they are currently engaged in; and the military branch affiliation and timeframe of military service (if applicable). Finally, the cover letter must include the nominee's complete contact information (name, address, email address and phone number); and a statement indicating a willingness to serve as a member of the Committee and confirming that they are not a Federally-registered lobbyist.

The résumé/CV should show professional and/or work experience and Veterans' service involvement—especially service that involves disability compensation issues. To promote inclusion and demographic balance of membership, please include as much information related to your race, national origin, disability status, minority Veteran status, or any other factors that may give you a diverse perspective on disability compensation, as well as a summary of your experience and qualifications relative to the membership criteria and professional qualifications listed above.

Self-nominations are acceptable. Any letters of nomination from organizations or other individuals must accompany the package when it is submitted. Letters of nomination submitted without a complete nomination package will not be considered. If you are submitting a package on behalf of an individual, it must include all of the required components and complete contact information. Do not submit a package without the nominee's consent or awareness.

Membership Terms: Individuals selected for appointment to the Committee shall be invited to serve a two-year term. Committee members will receive a stipend for attending Committee meetings, including per diem and reimbursement for travel expenses incurred.

The Department makes every effort to ensure that the membership of its Federal advisory committees is fairly balanced in terms of points of view represented. Every effort is made to ensure that a broad representation of geographic areas, gender, and racial and ethnic minority groups, and that the disabled are given consideration for membership. Appointment to this Committee shall be made without discrimination because of a person's race, color, religion, sex (including gender identity, transgender status, sexual orientation, and pregnancy), national origin, age, disability, or genetic information. Nominations must state that the nominee is willing to serve as a member of the Committee and appears to have no conflict of interest that would preclude membership.

Dated: March 15, 2023.
Jelessa M. Burney,
Federal Advisory Committee Management Officer.

[FR Doc. 2023-05662 Filed 3-20-23; 8:45 am]

BILLING CODE 8320-01-P